DEPARTMENT OF DEFENSE

Department of the Air Force

Notice of Intent To Prepare a Draft Programmatic Environmental Impact Statement for Basing a Global Strike Task Force, Andersen Air Force Base, Guam (U.S. Territory)

AGENCY: United States Air Force.

ACTION: Notice of intent to prepare a Draft Programmatic Environmental Impact Statement for basing a Global Strike Task Force, Andersen Air Force Base, Guam (U.S. territory).

SUMMARY: Pursuant to the National Environmental Policy Act (NEPA) of 1969, as amended (42 U.S.C. 4321, et seq.), the Council on Environmental Quality Regulations for implementing the procedural provisions of NEPA (40 Code of Federal Regulations (CFR) parts 1500-1508), and Air Force's Environmental Impact Analysis Process as implemented by 32 CFR part 989, the United States Air Force (Air Force) is issuing this notice to advise the public of our intent to prepare a Draft Programmatic Environmental Impact Statement (DPEIS) for the proposed basing of the Global Strike Task Force (GSTF) at Andersen Air Force Base (AFB), Guam. The DPEIS will analyze and evaluate the impacts of alternatives for the proposed establishment of an intelligence, surveillance, and reconnaissance, strike, and aerial refueling capability at Andersen AFB, as part of Pacific Command's GSTF initiative. The proposed action would base three Global Hawk unmanned aerial intelligence, surveillance, and reconnaissance aircraft and 12 aerial refueling aircraft at Andersen AFB. Additionally, 48 fighter and 6 bomber aircraft would rotate to Andersen AFB from bases in the 50 states. Approximately 2,400 additional military, civilian and contractor personnel would be required to support the proposed action. The action would also result in facility construction, addition, and alteration projects to support basing and operation.

This notice is being provided to obtain suggestions and information from other agencies and the public on the scope of issues to be addressed in the DPEIS, to include alternatives to the proposed action and the potential for impacts. Public comments on the scope of the DPEIS, reasonable alternatives that should be considered, anticipated environmental concerns, and actions that might be taken to address these issues are requested. A public scoping meeting will be held to obtain agency and community input to ensure that all relevant concerns are identified and addressed in the DPEIS. Notification of the meeting location and time will be made in the local area and will be announced via local news media. Written comments will also be accepted at the address listed below.

FOR FURTHER INFORMATION CONTACT: All comments received at the meeting, and all written comments received by June 30, 2005 will be considered in preparing the DPEIS. Please submit written comments to Mr. Scott Whittaker, Environmental Flight Chief, Unit 14007, APO AP 96543-4007. For further information, please call (671) 366-2101.

Albert F. Bodnar,
Federal Register Liaison Officer.

[FR Doc. 05-9902 Filed 5-17-05; 8:45 am]

BILLING CODE 5001-05-P